DEPARTMENT OF VETERANS AFFAIRS

Veterans Rural Health Advisory Committee; Notice of Meeting—Cancellation

The Department of Veterans Affairs (VA) gives notice under the Federal Advisory Committee Act that the meeting of the Veterans Rural Health Advisory Committee previously scheduled to be held on April 15-16, 2020, at Raymond G. Murphy VA Medical Center, 1501 San Pedro Dr. SE, Albuquerque, NM 87108 has been cancelled. For more information, please contact Mr. Thomas Klobucar, Designated Federal Officer at (202) 632-8581, or via email at Thomas.Klobucar@va.gov.

Dated: March 13, 2020.
LaTonya L. Small,
Federal Advisory Committee Management Officer.

[FR Doc. 2020-05663 Filed 3-17-20; 8:45 am]

BILLING CODE 8320-01-P